FEDERAL COMMUNICATIONS COMMISSION

47 CFR Part 74

[MB Docket No. 13-249; FCC 17-14]

Revitalization of the AM Radio Service

AGENCY: Federal Communications Commission.

ACTION: Final rule; announcement of effective date.

SUMMARY: In this document, the Federal Communications Commission (Commission) announces that the Office of Management and Budget (OMB) has approved the information collection requirements associated with the Commission's Second Report and Order, Revitalization of the AM Radio Service, FCC 17-14. This document is consistent with the Second Report and Order, which stated that the Commission would publish a document in the Federal Register announcing OMB approval and the effective date of the rules.

DATES: The rule amendment to 47 CFR 74.1201(g) and changes to FCC Form 345 and FCC Form 349, published at 82 FR 13069, March 9, 2017, will become effective on the originally announced effective date of April 10, 2017.

FOR FURTHER INFORMATION CONTACT: Cathy Williams by email at Cathy.Williams@fcc.gov and telephone at (202) 418-2918.

SUPPLEMENTARY INFORMATION: This document announces that OMB approved the preapproved information collection requirements, as set forth in the Further Notice of Proposed Rulemaking in this proceeding (30 FCC Rcd 12145 (2015)), as follows: OMB control number 3060-0075, OMB preapproved on March 17, 2016; and OMB control number 3060-0405, OMB preapproved on March 21, 2016. On February 27, 2017, OMB approved the final information collection requirements for the non-substantive changes contained in the Commission's Second Report and Order, FCC 17-14, published at 82 FR 13069 (March 9, 2017). The Commission publishes this notice as an announcement of the effective date of those information collection requirements.

Synopsis: As required by the Paperwork Reduction Act of 1995 (44 U.S.C. 3507), the FCC is notifying the public that OMB approved the preapproved information collection requirements contained in 47 CFR 74.1201(g), FCC Form 345, and FCC Form 349. In doing so, OMB approved on February 27, 2017, the non-substantive change to the pre-approved information collection requirements of OMB Control Numbers 3060-0075 and 3060-0405. Under 5 CFR part 1320, an agency may not conduct or sponsor a collection of information unless it displays a current, valid OMB Control Number. No person shall be subject to any penalty for failing to comply with a collection of information subject to the Paperwork Reduction Act that does not display a current, valid OMB Control Number. The OMB Control Numbers are 3060-0075 and 3060-0405.

The foregoing notice is required by the Paperwork Reduction Act of 1995, Public Law 104-13, October 1, 1995, and 44 U.S.C. 3507.

The total annual reporting burdens and costs for the respondents are as follows:

OMB Control Number: 3060-0075.

OMB Approval Date: February 27, 2017.

OMB Expiration Date: April 30, 2019.

Title: Application for Transfer of Control of a Corporate Licensee or Permittee, or Assignment of License or Permit, for an FM or TV Translator Station, or a Low Power Television Station, FCC Form 345.

Form Number: FCC Form 345.

Respondents: Business or other for-profit entities; Not for profit institutions; Local or Tribal Government.

Number of Respondents and Responses: 1,700 respondents; 2,700 responses.

Estimated Time per Response: 0.084-1.25 hours.

Frequency of Response: Third party disclosure requirement and on occasion reporting requirement.

Obligation to Respond: Required to obtain or retain benefits. The statutory authority for this collection of information is contained in Sections 4(i) and 310 of the Communications Act of 1934, as amended, 47 U.S.C. 154(i), 310.

Total Annual Burden: 2,667 hours.

Total Annual Cost: $3,958,125.

Nature and Extent of Confidentiality: There is no need for confidentiality with this collection of information.

Privacy Act Impact Assessment: No impact(s).

Needs and Uses: Filing of the FCC Form 345 is required when applying for authority for assignment of license or permit, or for consent to transfer of control of a corporate licensee or permittee for an FM or TV translator station, or low power TV station. This collection also includes the third party disclosure requirement of 47 CFR 73.3580 (OMB approval was received for Section 73.3580 under OMB Control Number 3060-0031). Furthermore, AM radio stations use Form 345 to apply for authority to assign or transfer fill-in FM translator stations.

This revised information collection relaxes the current rule setting forth where an FM fill-in translator rebroadcasting an AM broadcast station may be sited pursuant to 47 CFR 74.1201(g). The Commission amended 47 CFR 74.1201(g) to provide that an FM translator rebroadcasting an AM broadcast station must be located such that the 60 dBµ contour of the FM translator station must be contained within the greater of either (a) the 2 mV/m daytime contour of the AM station, or (b) a 25-mile radius centered at the AM station's transmitter site. FCC Form 345 applicants, when used by AM radio stations applying for authority to assign or transfer a fill-in FM translator station, must now certify to this new relaxed standard. This revised collection is consistent with the Commission's objective to provide flexibility to an AM station using a cross-service translator to serve its core market while not extending its signal beyond the station's core service area.

OMB Control Number: 3060-0405.

OMB Approval Date: February 27, 2017.

OMB Expiration Date: December 31, 2018.

Title: Application for Authority to Construct or Make Changes in an FM Translator or FM Booster Station, FCC Form 349.

Form Number: FCC Form 349.

Respondents: Business or other for-profit entities; Not for profit institutions; State, Local or Tribal Government.

Number of Respondents and Responses: 1,200 respondents; 2,400 responses.

Estimated Time per Response: 1-1.5 hours.

Frequency of Response: Third party disclosure requirement and on occasion reporting requirement.

Obligation to Respond: Required to obtain or retain benefits. The statutory authority for this collection of information is contained in Sections 4(i), 303, and 308 of the Communications Act of 1934, as amended, 47 U.S.C. 154(i), 303, and 308.

Total Annual Burden: 4,500 hours.

Total Annual Cost: $4,674.600.

Nature and Extent of Confidentiality: There is no need for confidentiality with this collection of information.

Privacy Act Impact Assessment: No impact(s).

Needs and Uses: FCC Form 349 is used to apply for authority to construct a new FM translator or FM booster broadcast station, or to make changes in the existing facilities of such stations. Form 349 also contains a third party disclosure requirement, pursuant to 47 CFR 73.3580, and a recordkeeping information collection requirement pursuant to 47 CFR 73.3527 (OMB approval was received for Section 73.4527 under OMB Control Number 3060-0214). Moreover, AM radio stations use Form 349 to apply for authorizations to operate fill-in FM translator stations.

This revised information collection relaxes the current rule setting forth where an FM fill-in translator rebroadcasting an AM broadcast station may be sited pursuant to 47 CFR 74.1201(g). The Commission amended 47 CFR 74.1201(g) to provide that an FM translator rebroadcasting an AM broadcast station must be located such that the 60 dBµ contour of the FM translator station must be contained within the greater of either (a) the 2 mV/m daytime contour of the AM station, or (b) a 25-mile radius centered at the AM station's transmitter site. FCC Form 349, when used by applicants applying for authorizations to operate such fill-in FM translator stations, must now certify to this new relaxed standard. This revised collection is consistent with the Commission's objective to provide flexibility to an AM station using a cross-service translator to serve its core market while not extending its signal beyond the station's core service area.

Federal Communications Commission.
Marlene H. Dortch,
Secretary.

[FR Doc. 2017-05185 Filed 3-15-17; 8:45 am]

BILLING CODE 6712-01-P